DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: American Community Survey (ACS) Methods Panel Tests.

OMB Control Number: 0607-0936.

Form Number(s): ACS-1, ACS-1(SP), ACS-1PR, ACS-1PR(SP), ACS CATI(HU), ACS CAPI(HU), ACS (Internet), ACS-1(GQ), ACS-1(GQ)(PR)

Type of Request: Regular Submission.

Number of Respondents: 636,000.

Average Hours per Response: 36 minutes.

Burden Hours: 388,167.

Needs and Uses:

The U.S. Census Bureau requests authorization from the Office of Management and Budget (OMB) for the American Community Survey (ACS) Methods Panel.

The ACS samples about 3.5 million housing unit addresses in the United States and 36,000 in Puerto Rico each year to collect detailed socioeconomic data. The ACS also samples about 195,000 residents living in Group Quarter (GQ) facilities to collect detailed socioeconomic data. Resulting tabulations from that data collection are provided on a yearly basis. The ACS allows the Census Bureau to provide timely and relevant housing and socio-economic statistics, even for low levels of geography.

An ongoing data collection effort with an annual sample of this magnitude requires that the ACS continue research, testing, and evaluations aimed at improving data quality, achieving survey cost efficiencies, and improving ACS questionnaire content and related data collection materials. The ACS Methods Panel is a research program that is designed to address and respond to emerging issues and survey needs. Over the next three years, the Methods Panel may include testing methods for increasing survey efficiencies, reducing survey cost, lessening respondent burden, and improving response rates. Testing may also include methods to improve data quality.

At this time, plans are in place to propose several tests: A summer 2015 mail messaging test, a fall 2015 mail messaging test, a 2016 ACS Content Test, a 2016 mail messaging test, a 2017 self-response test with the potential to test both mail messaging as well as questionnaire content, a 2018 self-response test building on the previous tests, as well as tests of Internet data collection enhancements in 2017 and 2018. Since the ACS Methods Panel is designed to address emerging issues, we may conduct additional testing as needed. Any additional testing would focus on methods for reducing data collection costs, improving data quality, revising content, or testing new questions that have an urgent need to be included on the ACS. Please note that this proposal includes summer and fall 2015 mail messaging tests, which were not included in the pre-submission notice.

First, in response to respondent concerns about prominent references to the mandatory participation in the ACS, the Census Bureau plans to test methods to soften the mandatory messages while emphasizing the benefits of participation in the survey. In May of 2015, the Census Bureau is conducting a test to study the impact of removing the phrase, “YOUR RESPONSE IS REQUIRED BY LAW” from the envelopes used in the second and fourth mailing to respondents. The summer 2015 test will advance the study of mandatory messaging by modifying the messages included in several of the mailings, including postcards and letters.

Second, in response to declining response rates and increasing costs, the Census Bureau plans to analyze methods to increase self-response, the least expensive mode of data collection, especially Internet response. The tests would include changes to messages included in mail materials to motivate the public to respond to the ACS, increase awareness of the ACS, as well as changes to design elements of the materials, including color and graphics. Tests would be conducted in 2015, 2016, 2017, and 2018 building on previous tests' findings.

Additionally, as part of the mail messaging tests in 2017 and 2018, the Census Bureau may include content changes based on continued review of the ACS content in an effort to address respondent concerns and potentially reduce respondent burden. Among other activities, the Census Bureau is reviewing questions to determine if we can revise the wording in a way to make them less burdensome for survey respondents, especially for questions determined during the 2014 ACS Content Review to be especially sensitive, difficult, or time-consuming. Proposed changes to content would be cognitively tested and then included in a field test to assess the impact on both respondent burden and data quality.

Third, in response to Federal agencies' requests for new and revised ACS questions, the Census Bureau plans to conduct the 2016 ACS Content Test. Changes to the current ACS content and the addition of new content were identified through the OMB Interagency Committee for the ACS, and must be approved for testing by the OMB. The objective of the 2016 ACS Content Test is to determine the impact of changing question wording, response categories, and redefinition of underlying constructs on the quality of the data collected. Revisions to twelve questions/topics are proposed for inclusion in the 2016 ACS Content Test:

* Telephone Service

* Computer and Internet

* Relationship

* Race and Hispanic Origin

* Health Insurance

* Health Insurance Premium and Subsidies (new questions)

* Journey to Work: Commuting Mode

* Journey to Work: Time Left for Work

* Number of Weeks Worked

* Class of Worker

* Industry and Occupation

* Retirement Income

The Census Bureau proposes to evaluate changes to the questions by comparing the revised questions to the current ACS questions, or for new questions, to compare the performance of question versions to each other as well as to other well-known sources of such information.

Fourth, the ACS began collecting data using the Internet in January 2013. To date, the Web site used to collect the data is designed for a desktop computer screen. The Internet tests being proposed in 2017 and 2018 would evaluate Internet data collection via mobile devices, examine ways to reduce Internet break-offs, email testing, as well as other improvements to Internet data collection.

Finally, we will continue to examine the operational issues, research the data quality, collect cost information and make recommendations in the future for this annual data collection. The ACS Methods Panel testing, such as the 2015 Mail Messaging Tests, 2016 Content Test, 2016 Mail Messaging Test, 2017 Self-Response Test, and 2018 Self-Response Test, provide a mechanism to investigate ways to reduce or at least maintain data collection costs and improve the quality of the data.

Affected Public: Individuals or Households.

Frequency: Multiple one-time tests over a 3-year period.

Respondent's Obligation: Mandatory.

Legal Authority: Title 13, United States Code, sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2015-15532 Filed 6-23-15; 8:45 am]

BILLING CODE 3510-07-P